DEPARTMENT OF TRANSPORTATION

Federal Transit Administration

[FTA Docket No. FTA-2013-0007]

Notice of Request for Revision of Information Collections

AGENCY: Federal Transit Administration, DOT.

ACTION: Notice of request for comments.

SUMMARY: In accordance with the Paperwork Reduction Act of 1995, this notice announces the intention of the Federal Transit Administration (FTA) to request the Office of Management and Budget (OMB) to approve the revisions of the following information collections:

49 U.S.C. 5307—Capital Assistance Program and Section 5309—Urbanized Area Formula Program

49 U.S.C. 5310—Capital Assistance Program for Elderly Persons and Persons with Disabilities and Section 5311—Nonurbanized Area Formula Program

DATES: Comments must be submitted before April 8, 2013.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT:

49 U.S.C. 5307—Capital Assistance Program and Section 5309 Urbanized Area Formula Program—Vanessa Williams, FTA Office of Program Management (202) 366-4818, or email Vanessa.Williams@dot.gov.

49 U.S.C. 5310—Capital Assistance Program for Elderly Persons and Persons with Disabilities and Section 5311—Nonurbanized Area Formula Program—Elan Flippin, FTA Office of Program Management (202) 366-3800, or email Elan.Flippin@dot.gov.

SUPPLEMENTARY INFORMATION:

Interested parties are invited to send comments regarding any aspect of these information collections, including: (1) The necessity and utility of the information collections for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C.—5307 Capital Assistance Program and Section 5309—Urbanized Area Formula Program

(OMB Number: 2132-0502)

Background: 49 U.S.C. 5307—Capital Assistance Program and Section 5309—Urbanized Area Formula Program authorize the Secretary of Transportation to make grants to State and local governments and public transportation authorities for financing mass transportation projects. In response to requirements authorized by the new legislation, Moving Ahead for Progress in the 21st Century (MAP-21), a Passenger Ferry Grant Program has been added under 49 U.S.C. 5307. The Passenger Ferry Grant Program is a new discretionary grant program that will award funding on a competitive selection basis. Grant recipients for 49 U.S.C. 5307 and 5309 are required to make information available to the public and publish a program of projects for affected citizens to comment on the proposed program and performance of the grant recipients at public hearings. Notices of hearings must include a brief description of the proposed project and be published in a newspaper circulated in the affected area. FTA also uses the information to determine eligibility for funding and to monitor the progress of the grantee in implementing and completing project activities. The information submitted ensures FTA's compliance with applicable federal laws, OMB Circular A-102 and 49 CFR Part 18, “Uniform Administrative Requirements for Grants and C9ooperative Agreements with State and Local Governments.”

Respondents: State and local government, business or other for-profit institutions and non-profit institutions.

Estimated Annual Burden on Respondents: Approximately 50 hours for each of the 3,345 respondents.

Estimated Total Annual Burden: 167,250 hours.

Frequency: Annual.

Title: 49 U.S.C. 5310—Capital Assistance Program for Elderly Persons and Persons with Disabilities and Section 5311—Nonurbanized Area Formula Program

(OMB Number 2132-0500)

Background: 49 U.S.C. 5310—Capital Assistance Program for Elderly Persons and

Persons with Disabilities provides financial assistance for the specialized transportation service needs of elderly persons and persons with disabilities in all areas, urbanized, small urban and rural. 49 U.S.C. 5311—Nonurbanized Area Formula Program provides financial assistance for the provision of public transportation services in nonurbanized areas. Both programs are administered by the State. The Tribal Transit Program, which was approved as a separate program under the American Recovery and Reinvestment Act (ARRA), is now being added under 49 U.S.C. 5311. Under the new legislation, Moving Ahead for Progress in the 21st Century (MAP-21), the Tribal Transit Program continues to be a set-aside from the rural area formula program (Section 5311), but now consists of a $25 million formula program and a $5 million discretionary grant program. This program no longer provides a single apportionment to the State. It now provides apportionments specifically for large urbanized, small urbanized and rural areas and will require new designations in large urbanized areas. MAP-21 also expands the eligibility provisions to include operating expenses.

49 U.S.C. 5310 and 5311authorize FTA to review applications for federal financial assistance to determine eligibility and compliance with statutory and administrative requirements. The applications must contain sufficient information to enable FTA to make the findings required by law to enforce the requirements of the programs. Information collected during the project management stage provides a basis for monitoring approved projects to ensure timely and appropriate expenditure of federal funds by grant recipients.

Respondents: State and local government, business or other for-profit institutions and non-profit institutions and small business organizations.

Estimated Annual Burden on Respondents: Approximately 111 hours for each of the 178 respondents.

Estimated Total Annual Burden: 20,775 hours.

Frequency: Annual.

Issued: January 30, 2013.
Matthew M. Crouch,
Deputy Administrator for Administration.

[FR Doc. 2013-02664 Filed 2-5-13; 8:45 am]

BILLING CODE P